DEPARTMENT OF ENERGY

Federal Energy Regulatory Commission

[Docket No. EL00-62-029]

ISO New England Inc.; Notice of Filing

July 6, 2001.

Take notice that on June 29, 2001, ISO New England Inc. tendered for filing with the Federal Energy Regulatory Commission (Commission) a Substitute Original Sheet 1002A of New England Power Pool FERC Electric Rate Schedule No. 6, a blackline of Sheet 1002A showing the correction, and a changed page 32 to the filing letter reflecting the correction to the electrical units in the formula.

Any person desiring to be heard or to protest such filing should file a motion to intervene or protest with the Federal Energy Regulatory Commission, 888 First Street, NE., Washington, D.C. 20426, in accordance with Rules 211 and 214 of the Commission's Rules of Practice and Procedure (18 CFR 385.211 and 385.214). All such motions and protests should be filed on or before July 13, 2001. Protests will be considered by the Commission to determine the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-17456 Filed 7-11-01; 8:45 am]

BILLING CODE 6717-01-P